DEPARTMENT OF THE TREASURY

Periodic Meeting of the U.S. Department of the Treasury Tribal Advisory Committee

AGENCY: Department of the Treasury.

ACTION: Notice of meeting.

SUMMARY: This notice announces that the U.S. Department of the Treasury Tribal Advisory Committee (TTAC) will convene a public meeting from 1:00 p.m.-4:00 p.m. Eastern Time on Wednesday, December 1, 2021. Due to COVID-19 safety concerns, the meeting will be held virtually via Zoom. The meeting is open to the public, and the video meeting is accessible to individuals with differing abilities.

DATES: The meeting will be held on Wednesday, December 1, 2021, from 1:00 p.m.-4:00 p.m. Eastern Time.

ADDRESSES: Due to COVID-19 safety concerns, the meeting will be held via video conference. Please register here. When registering you will be asked to state your name, title, and organizational affiliation and whether you wish to make public comments. It is recommended that you join the video conference 10 minutes before the meeting begins. Those wishing to make public comments should register no later than three business days before the Public Meeting. Written comments must be received 15 calendar days before the Public Meeting in order to be considered during the meeting. Written comments can be emailed to TTAC@treasury.gov. If you have questions regarding the meeting please email TTAC@treasury.gov.

If you require a reasonable accommodation, please contact the Departmental Offices Reasonable Accommodations Coordinator at ReasonableAccommodationRequests@treasury.gov. If requesting a sign language interpreter, please make sure your request to the Reasonable Accommodations Coordinator is made at least (5) five days prior to the event if at all possible.

FOR FURTHER INFORMATION CONTACT: Nancy Montoya, Treasury Tribal Affairs Program Coordinator, Department of the Treasury, 1500 Pennsylvania Avenue NW, Room 1426G, Washington, DC 20220, at (202) 622-2031 (this is not a toll-free number) or by emailing TTAC@treasury.gov. Persons who have difficulty hearing or speaking may access this number via TTY by calling the toll-free Federal Relay Service at (800) 877-8339.

SUPPLEMENTARY INFORMATION:

Background

Section 3 of the Tribal General Welfare Exclusion Act of 2014, Public Law 113-68, 128 Stat. 1883, enacted on September 26, 2014 (TGWEA), directs the Secretary of the Treasury (Secretary) to establish a seven member Tribal Advisory Committee to advise the Secretary on matters related to the taxation of Indians, the training of Internal Revenue Service field agents, and the provision of training and technical assistance to Native American financial officers.

Pursuant to Section 3 of the TGWEA and in accordance with the provisions of the Federal Advisory Committee Act (FACA), 5 U.S.C. App. 1 et seq., the TTAC was established on February 10, 2015, as the “U.S. Department of the Treasury Tribal Advisory Committee.” The TTAC's Charter provides that it shall operate under the provisions of the FACA and shall advise and report to the Secretary on:

(1) Matters related to the taxation of Indians;

(2) The establishment of training and education for internal revenue field agents who administer and enforce internal revenue laws with respect to Indian tribes of Federal Indian law and the Federal Government's unique legal treaty and trust relationship with Indian tribal governments; and

(3) The establishment of training of such internal revenue field agents, and provisions of training and technical assistance to tribal financial officers, about implementation of the TGWEA and any amendments.

Ninth Periodic Meeting

In accordance with section 10(a)(2) of the FACA and implementing regulations at 41 CFR 102-3.150, Krishna P. Vallabhaneni, the Designated Federal Officer of the TTAC, has ordered publication of this notice to inform the public that the TTAC will convene its ninth periodic meeting on Wednesday, December 1, 2021, from 1:00 p.m.-4:00 p.m. Eastern Time. Due to the COVID-19 pandemic, this meeting will be held via video conference.

Summary of Agenda and Topics To Be Discussed

During this meeting, the TTAC members will provide updates on the work of the TTAC's three subcommittees, hear comments from the public, and take other actions necessary to fulfill the TTAC's mandate.

Public Comments

Members of the public wishing to comment on the business of the TTAC are invited to submit written comments by any of the following methods:

Electronic Comments

• Send electronic comments to TTAC@treasury.gov. Comments are requested no later than 15 calendar days before the Public Meeting in order to be considered by the TTAC.

Paper Comments

• Send paper comments in triplicate to the Treasury Tribal Advisory Committee, Department of the Treasury, 1500 Pennsylvania Avenue NW, Room 1426G, Washington, DC 20220.

The Department of the Treasury will post all comments received on its website (https://www.treasury.gov/resource-center/economic-policy/tribal-policy/Pages/Tribal-Policy.aspx) without change, including any business or personal information provided such as names, addresses, email addresses, or telephone numbers. The Department of the Treasury will also make these comments available for public inspection and copying in the Department of the Treasury's Library, 720 Madison Place NW, Room 1020, Washington, DC 20220, on official business days between the hours of 10:00 a.m. and 5:00 p.m. Eastern Time. You can make an appointment to inspect statements by telephoning (202) 622-2000. All statements received, including attachments and other supporting materials, are part of the public record and subject to public disclosure. You should submit only information that you wish to make available publicly.

Krishna P. Vallabhaneni,
Tax Legislative Counsel.

[FR Doc. 2021-23909 Filed 11-2-21; 8:45 am]

BILLING CODE 4810-AK-P